ENVIRONMENTAL PROTECTION AGENCY

[FRL-7889-3]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No.1715.06; TSCA Section 402 and Section 404 Training and Certification, Accreditation and Standards for Lead-Based Paint Activities; in 40 CFR part 745; was approved 02/07/2005; OMB Number 2070-0155; expires 02/29/2008.

EPA ICR No. 1597.06; Requirements and Exemptions for Specific RCRA Wastes (Renewal); in 40 CFR part 273, 40 CFR 266.230, 40 CFR 266.240, 40 CFR 266.245, 40 CFR 266.250, 40 CFR 266.345, 40 CFR 266.355, 40 CFR 266.360; was approved 02/07/2005; OMB Number 2050-0145; expires 02/29/2008.

EPA ICR No. 1445.06; Continuous Release Reporting Regulations (CRRR) under CERCLA 1980 (Renewal); in 40 CFR 302.8; was approved 02/09/2005; OMB Number 2050-0086; expires 02/29/2008.

EPA ICR No. 1488.06; Superfund Site Evaluation and Hazard Ranking System (Renewal); in 40 CFR part 300; was approved 02/10/2005; OMB Number 2050-0095; expires 02/29/2008.

EPA ICR No. 1446.08; PCBs: Consolidated Reporting and Recordkeeping Requirements; in 40 CFR 302.8; was approved 02/09/2005; OMB Number 2070-0112; expires 02/29/2008.

EPA ICR No. 1487.08; Cooperative Agreements and Superfund State Contracts for Superfund Response Actions (Renewal); in 40 CFR part 35, subpart O; was approved 02/09/2005; OMB Number 2050-0179; expires 02/29/2008.

EPA ICR No. 0938.10; General Administrative Requirements for Assistance Programs: EPA Administrative Capability Questionnaire; in 40 CFR parts 30 and 31; was approved 02/08/2005; OMB Number 2030-0020; expires 12/31/2005.

EPA ICR No. 0596.05; Application for Emergency Exemption for Pesticides; in 40 CFR part 166; was approved 02/10/2005; OMB Number 2070-0032; expires 02/29/2008.

EPA ICR No. 1425.06; Application for Reimbursement to Local Governments for Emergency Response to Hazardous Substance Releases Under CERCLA section 123 (Renewal); was approved 02/10/2005; OMB Number 2050-0077; expires 02/29/2008.

EPA ICR No. 1681.05; NESHAP for Epoxy Resin and Non-Nylon Polyamide Production (Renewal); in 40 CFR part 63, subpart W; was approved 02/15/2005; OMB Number 2060-0290; expires 02/29/2008.

EPA ICR No. 1669.04; Lead-Based Paint Pre-Renovation Information Dissemination—TSCA Sec. 406(b); in 40 CFR part 745, subpart E; was approved 02/14/2005; OMB Number 2070-0158; expires 02/29/2008.

EPA ICR No. 1741.04; Correction of Misreported Chemical Substances on the Toxic Substances Control Act (TSCA) Chemical Substances Inventory; in 40 CFR part 710; OMB Number 2070-0145; expires 02/29/2008.

EPA ICR No. 1767.04; NESHAP for Primary Aluminum Reduction Plants (Renewal); in 40 CFR part 63, subpart LL; was approved 02/15/2005; OMB Number 2060-0360; expires 02/29/2008.

EPA ICR No. 2179.01; Recordkeeping and Periodic Reporting of the Production, Import, Recycling, Destruction, Transshipment and Feedstock Use of Ozone Depleting Substances (Emergency ICR for Critical Use Exempt Requirements); in 40 CFR part 82, subparts A and E and 40 CFR Section 83.13; was approved 02/17/2005; OMB Number 2060-0564; expires 08/31/2005.

EPA ICR No. 2182.01; Pilot Project Regarding the Transboundary Movements of Municipal of Solid Waste (MSW) Between the U.S. and Canada (Request for Information on Exports of Municipal Solid Waste from Ontario, Canada to Michigan); was approved 03/01/2005; OMB Number 2020-0030; expires 09/30/2005.

EPA ICR No. 1736.04; EPA's Natural Gas STAR Program (Renewal); was approved 03/02/2005; OMB Number 2060-0328; expires 03/31/2008.

Short Term Extensions

EPA ICR No. 0229.15; NPDES and Sewage Sludge Monitoring Reports; OMB Number 2040-0004; on 02/25/2005 OMB extended the expiration date to 05/31/2005.

EPA ICR No. 1639.04; National Pollutant Discharge Elimination System Great Lakes Water Quality Guidance; OMB Number 2040-0180; on 02/25/2005 OMB extended the expiration date to 05/31/2005.

EPA ICR No. 1944.02; Baseline Standards and Best Management Practices for the Coal Mining Point Source Category; in 40 CFR part 434; OMB Number 2040-0239; on 02/25/2005 OMB extended the expiration date to 05/31/2005.

EPA ICR No. 1878.01; Minimum Monitoring Requirements for Direct and Indirect Discharging Mills in the Bleached Papergrade Kraft and Soda Subcategory and the Papergrade Sulfite Subcategory of the Pulp, Paper, and Paperboard Point Source Category; OMB Number 2040-0243; on 02/25/2005 OMB extended the expiration date to 05/31/2005.

EPA ICR No. 2015.01; Certification in Lieu of Chloroform Minimum Monitoring Requirements for Direct and Indirect Discharging Mills in the Bleached Papergrade Kraft and Soda Subcategory of the Pulp, Paper, and Paperboard Point Source Category; OMB Number 2040-0242; on 02/25/2005 OMB extended the expiration date to 05/31/2005.

Dated: March 17, 2005.
Oscar Morales,
Director, Collection Strategies Division.

[FR Doc. 05-5819 Filed 3-23-05; 8:45 am]

BILLING CODE 6560-50-P